NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 23, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Office of the Chief of Engineers (N1-77-00-1, 1 item, 1 temporary item). Records relating to military construction projects, 1951-1973. Included are correspondence, directives authorization forms, drawings, transmittals, and related records created and maintained by branches and branch sections of the Construction Division and the Engineering Division of the Directorate of Military Construction.

2. Department of the Army, Office of the Chief of Engineers (N1-77-02-1, 5 items, 5 temporary items). Records of the Miami Engineer District relating to the Airport Development Program, ca. 1942-1948, including military construction and contract files, engineering and operation files, and project data files; hydraulic and hydrologic data, 1967-1969, and unannotated aerial photographs, 1946-1959.

3. Department of the Army, Agency-wide (N1-AU-02-24, 7 items, 7 temporary items). Records relating to attorney standards of conduct and legal office mismanagement. Included are complaints, requests for inquiries, reports, opinions, correspondence, memoranda, and records of actions taken. Also included are electronic copies of documents created using electronic mail and word processing. This schedule authorizes the agency to apply the proposed disposition instructions to any recordkeeping medium.

4. Department of Defense, Office of the Secretary of Defense (N1-330-02-1, 4 items, 2 temporary items). Source records and reports relating to the Gulf War Comprehensive Clinical Evaluation Program Automated Information System. Records document medical evaluations of Department of Defense personnel, beneficiaries, and others who report having a medical problem as a result of possible exposure to hazardous substances during the 1991 Persian Gulf War. Included are downloaded patient referral records and demographic data about participants, along with outputs consisting of aggregated participant data and other reports. The electronic master file and system documentation are proposed for permanent retention.

5. Department of Defense, Defense Commissary Agency (N1-506-02-4, 90 items, 90 temporary items). Records relating to quality assurance, security, and safety activities. Included are records relating to such matters as food safety guidance and inspection standards, designation of security officials, alarm systems testing, security briefings, security awareness and training, safety hazards studies, accident analyses, hazardous chemical inventories, industrial hygiene and occupational health surveillance, and hazard abatement. Also included are electronic copies of documents created using electronic mail and word processing. This schedule authorizes the agency to apply the proposed disposition instructions to any recordkeeping medium.

6. Department of Justice, Federal Bureau of Investigation (N1-65-02-2, 2 items, 2 temporary items). Headquarters and field office records documenting the administration of the FBI alias and false identification program. Also included are electronic copies of documents created using electronic mail and word processing.

7. Department of Justice, Federal Bureau of Investigation (N1-65-02-3, 2 items, 2 temporary items). Field office copies of Treasury Department Suspicious Activity Reports which do not result in any FBI action. Also included are electronic copies of documents created using electronic mail and word processing.

8. Department of Justice, Bureau of Prisons (N1-129-02-1, 11 items, 10 temporary items). Records relating to education and vocational training. Included are chronological files, congressional correspondence, institutional files, operations and administration files, policy waiver files, program review reports, program statement working files, subject reference files, training files, and electronic copies of documents created using electronic mail and word processing. Recordkeeping copies of education annual reports are proposed for permanent retention.

9. Department of Justice, Bureau of Prisons (N1-129-02-2, 12 items, 9 temporary items). Records of the Industrial, Education, and Vocational Training Corporate Business Group consisting of assistant director's office subject files, deputy assistant directors' office subject files, inmate accident compensation files, subject reference files, customer relations files, ombudsman's reports, waiver appeals case files, and waiver logs. Also included are electronic copies of documents created using electronic mail and word processing. Recordkeeping copies of files relating to public works and community service, minutes of meetings of the Board of Directors, and hearing transcripts of the Board of Directors are proposed as permanent.

10. Administrative Office of the U.S. Courts, Office of the General Counsel (N1-116-02-2, 5 items, 5 temporary items). Legal precedent reference files, tort claims files, and citizen and prisoner correspondence. Also included are electronic copies of documents created using electronic mail and word processing. Notice of this schedule was previously published in the Federal Register. However, changes made during the appraisal process have necessitated publication of a revised notice.

11. Environmental Protection Agency, Office of Air and Radiation (N1-412-02-8, 4 items, 2 temporary items). Textual and electronic inputs into the Certification and Fuel Economy Information System, an electronic system used to store information submitted by automobile manufacturers, testing labs, and agency analysts. Proposed for permanent retention are the electronic data and the related system documentation.

12. Export-Import Bank of the United States, Agency-wide (N1-275-02-1, 20 items, 9 temporary items). Records relating to operational activities of the Export-Import Bank. Included are such records as transaction files, working papers of board members, administrative law group reference files, and copies of speeches made by officials other than board members. Also included are electronic copies of documents created using electronic mail and word processing. Proposed for permanent retention are recordkeeping copies of such files as minutes of meetings of the full board, board member speeches and correspondence, advisory committees records, credit and risk committee records, general counsel legal opinions, records relating to financial institutions, press releases, and country risk analyses.

13. Federal Emergency Management Agency, Office of Financial Management (N1-311-01-8, 3 items, 3 temporary items). Files relating to non-disaster related grants documenting their establishment, administration, and evaluation, including electronic copies of documents created using electronic mail and word processing.

14. General Services Administration, Federal Bridge Contract Authority (N1-352-02-1, 26 items, 26 temporary items). Records pertaining to the Federal Bridge Certification Authority, an information system designed to unify individual agency certification authorities into a systematic overall Federal Public Key Infrastructure. Included are records relating to such matters as certificate policy, system configuration, revocation requests, system backups, compliance attestations, and audits. Also included are electronic copies of documents created using electronic mail and word processing.

15. Office of Government Ethics, Program Review Division (N1-522-02-1, 5 items, 4 temporary items). Records documenting the government-wide single-issue review process. Records include questionnaires and surveys, electronic data, work papers, and electronic copies of records created using electronic mail and word processing. Recordkeeping copies of final reports are proposed for permanent retention.

16. Office of Personnel Management, Agency-wide (N9-478-02-2, 2 items, 2 temporary items). Electronic copies of records created using electronic mail and word processing that relate to administrative services. Included are electronic copies of records pertaining to such subjects as procurement, space management, building maintenance, property management, transportation, and mail distribution. Recordkeeping copies of these files are included in the Administrative Services Section of the OPM Administrative Manual Supplement. This schedule does not include descriptions of records at the file series level, but, instead, provides citations to the agency's Administrative Manual Supplement. To facilitate review of this schedule, NARA will provide the Administrative Services Section of the manual to requestors.

17. Office of Personnel Management, Agency-wide (N9-478-02-7, 2 items, 2 temporary items). Electronic copies of records created using electronic mail and word processing that relate to employee development and utilization. Included are electronic copies of records pertaining to such subjects as inter-agency training agreements and training programs. Recordkeeping copies of these files are included in the Employee Development and Utilization Section of the OPM Administrative Manual Supplement. This schedule does not include descriptions of records at the file series level, but, instead, provides citations to the agency's Administrative Manual Supplement. To facilitate review of this schedule, NARA will provide the Employee Development and Utilization Section of the manual to requestors.

18. Office of Personnel Management, Agency-wide (N9-478-02-12, 2 items, 2 temporary items). Electronic copies of records created using electronic mail and word processing that relate to the Government-wide examination and recruiting program. Included are electronic copies of records pertaining to such subjects as test material, examination announcements, and applicant data sheets. Recordkeeping copies of these files are included in the Executive Personnel Section of the OPM Administrative Manual Supplement. This schedule does not include descriptions of records at the file series level, but, instead, provides citations to the agency's Administrative Manual Supplement. To facilitate review of this schedule, NARA will provide the Executive Personnel Section of the manual to requestors.

19. Office of Personnel Management, Agency-wide (N9-478-02-14, 2 items, 2 temporary items). Electronic copies of records created using electronic mail and word processing that relate to insurance benefits. Included are electronic copies of records pertaining to the Federal employee group life and health insurance program and related accounting activities and claims. Recordkeeping copies of these files are included in the Insurance Section of the OPM Administrative Manual Supplement. This schedule does not include descriptions of records at the file series level, but, instead, provides citations to the agency's Administrative Manual Supplement. To facilitate review of this schedule, NARA will provide the Insurance Section of the manual to requestors.

20. Office of Personnel Management, Agency-wide (N9-478-02-16, 2 items, 2 temporary items). Electronic copies of records created using electronic mail and word processing that relate to implementation of the Intergovernmental Personnel Act. Included are electronic copies of records pertaining to such subjects as grant-in-aid cases, state programs, surveys on quantitative and qualitative reviews, and assignment agreements. Recordkeeping copies of these files are included in the Intergovernmental Personnel Program Section of the OPM Administrative Manual Supplement. This schedule does not include descriptions of records at the file series level, but, instead, provides citations to the agency's Administrative Manual Supplement. To facilitate review of this schedule, NARA will provide the Intergovernmental Personnel Program Section of the manual to requestors.

21. Office of Personnel Management, Agency-wide (N9-478-02-18, 2 items, 2 temporary items). Electronic copies of records created using electronic mail and word processing that relate to internal personnel administration. Included are electronic copies of records associated with such files as official personnel folders, offers of appointment, eligibility records, statistical reports, and performance evaluations. Recordkeeping copies of these files are included in the Personnel Section of the OPM Administrative Manual Supplement. This schedule does not include descriptions of records at the file series level, but, instead, provides citations to the agency's Administrative Manual Supplement. To facilitate review of this schedule, NARA will provide the Personnel Section of the manual to requestors.

Dated: August 5, 2002.
Michael J. Kurtz,
Assistant Archivist for Record Services—Washington, DC.

[FR Doc. 02-20164 Filed 8-8-02; 8:45 am]

BILLING CODE 7515-01-P